DEPARTMENT OF HEALTH AND HUMAN SERVICES

Administration on Community Living

Proposed Information Collection Activity; Comment Request; State Developmental Disabilities Council 5-Year State Plan

AGENCY: Administration for Community Living, Administration on Intellectual and Developmental Disabilities, HHS.

ACTION: Notice.

SUMMARY: The Administration on Intellectual and Developmental Disabilities (AIDD), Administration for Community Living (ACL) is announcing an opportunity to comment on the proposed collection of information by the agency. Under the Paperwork Reduction Act of 1995 (the PRA), Federal agencies are required to publish notice in the Federal Register concerning each proposed collection of information, including each proposed extension of an existing collection of information, and to allow 30 days for public comment in response to the notice. This notice collects comments on the information collection requirements relating to an existing collection: State Developmental Disabilities Council 5-Year State Plan, 0985-0029.

DATES: Submit written comments on the collection of information by August 31, 2016.

ADDRESSES: Submit electronic comments on the collection of information to: Submit written comments on the collection of information to by fax 202.395.5806 or by email to OIRA_submission@omb.eop.gov, Attn: OMB Desk Officer for ACL.

FOR FURTHER INFORMATION CONTACT: Allison Cruz (allison.cruz@acl.hhs.gov).

SUPPLEMENTARY INFORMATION: In compliance with the requirements of Section 506(c)(2)(A) of the Paperwork Reduction Act of 1995, the Administration on Community Living is soliciting public comment on the specific aspects of the information collection described above. The Department specifically requests comments on: (a) Whether the proposed Collection of information is necessary for the proper performance of the function of the agency, including whether the information shall have practical utility; (b) the accuracy of the agency's estimate of the burden of the proposed collection of information; (c) the quality, utility, and clarity of the information to be collected; (d) ways to minimize the burden information to be collected; and (e) ways to minimize the burden of the collection of information on respondents, including through the use of automated collection technique comments and or other forms of information technology. Consideration will be given to comments and suggestions submitted within 30 days of this publication. The proposed data collection tools can be found at the ACL Web site http://www.acl.gov/Programs/AIDD/Program_Resource_Search/Results_DDC.aspx.

Respondents: 56 State Developmental Disabilities Councils.

Annual Burden Estimates
Instrument | Number of respondents | Number of responses per respondent | Average burden hours per response | Total burden hours
State Developmental Disabilities Council 5-Year State Plan | 56 | 1 | 367 | 20,552

Estimated Total Annual Burden Hours: 20,552.

Dated: July 25, 2016.
Kathy Greenlee,
Administrator and Assistant Secretary for Aging.

[FR Doc. 2016-18177 Filed 7-29-16; 8:45 am]

BILLING CODE 4154-01-P